DEPARTMENT OF TRANSPORTATION

Coast Guard

[CGD08-02-010]

Lower Mississippi River Waterway Safety Advisory Committee Meeting

AGENCY: Coast Guard, DOT.

ACTION: Notice of meeting.

SUMMARY: The Lower Mississippi River Waterway Safety Advisory Committee (LMRWSAC) will meet to discuss various issues relating to navigational safety on the Lower Mississippi River and related waterways. The meeting will be open to the public.

DATES: The next meeting of LMRWSAC will be held on Tuesday, May 7, 2002, from 9 a.m. to 12 a.m. (noon). This meeting may adjourn early if all business is finished.

ADDRESSES: The meeting will be held in the basement conference room of the Hale Boggs Federal Building, 501 Magazine Street, New Orleans, Louisiana.

FOR FURTHER INFORMATION CONTACT: Lieutenant Ricardo Alonso, Committee Administrator, telephone (504) 589-4222, Fax (504) 589-4241. This notice is available on the Internet at http://dms.dot.gov.

SUPPLEMENTARY INFORMATION: Notice of this meeting is given under the Federal Advisory Committee Act, 5 U.S.C. App. 2.

Agenda of Meeting

Lower Mississippi River Waterway Safety Advisory Committee (LMRWSAC). The agenda includes the following:

(1) Introduction of committee members.

(2) Remarks by CAPT S. Rochon, Executive Director.

(3) Approval of the October 16, 2001 minutes.

(4) Old Business:

(a) Captain of the Port status report.

(b) VTS update report.

(c) PORTS update report.

(5) New Business.

(6) Next meeting.

(7) Adjournment.

Procedural

The meeting is open to the public. Please note that the meeting may close early if all business is finished. At the Chair's discretion, members of the public may make oral presentations during the meeting.

Information on Services for Individuals With Disabilities

For information on facilities or services for individuals with disabilities, or to request special assistance at the meetings, contact the Committee Administrator at the location indicated under ADDRESSES as soon as possible.

Dated: April 4, 2002.
Roy J. Castro,
Rear Admiral, U.S. Coast Guard, Commander, Eighth Coast Guard District.

[FR Doc. 02-8787 Filed 4-10-02; 8:45 am]

BILLING CODE 4910-15-P